SECURITIES AND EXCHANGE COMMISSION

[File No. 500-1]

In the Matter of Kimber-X Resources Corp.; Order of Suspension of Trading

December 5, 2007.

It appears to the Securities and Exchange Commission that there is a lack of current and accurate information concerning the securities of Kimber-X Resources Corp., a Delaware company with purported operations in Saskatchewan, Canada. Questions have arisen regarding the adequacy and accuracy of company press releases and other publicly-disseminated information concerning the company's current operations, issuance of securities, and transactions in company stock by company insiders.

The Commission is of the opinion that the public interest and the protection of investors require a suspension of trading in the securities of Kimber-X Resources Corp.

Therefore, it is ordered, pursuant to Section 12(k) of the Securities Exchange Act of 1934, that trading in the securities of Kimber-X Resources Corp. is suspended for the period from 9:30 a.m. EST, December 5, 2007, through 11:59 p.m. EST, on December 18, 2007.

By the Commission.
Nancy M. Morris,
Secretary.

[FR Doc. 07-5992 Filed 12-5-07; 3:04 pm]

BILLING CODE 8011-01-P